ENVIRONMENTAL PROTECTION AGENCY

[OA-2004-0006, FRL-7816-7]

Agency Information Collection Activities: Proposed Collection; Comment Request; Exploring Public and Private Preferences for Children's Health Risk Reduction, EPA ICR Number 2160.01

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before November 22, 2004.

ADDRESSES: Submit your comments, referencing docket ID number OA-2004-0006, to EPA online using EDOCKET (our preferred method), by e-mail to oei.docket@epa.gov, or by mail to: EPA Docket Center, Environmental Protection Agency, Office of Environmental Information, Mail Code 2822T, 1200 Pennsylvania Ave., NW., Washington, DC 20460.

FOR FURTHER INFORMATION CONTACT: Nathalie Simon, Office of Policy, Economics and Innovation, Mail Code 1809T, Environmental Protection Agency, 1200 Pennsylvania Ave., NW., Washington, DC 20460; telephone number: (202) 566-2347; fax number: (202) 566-2363; e-mail address: simon.nathalie@epa.gov.

SUPPLEMENTARY INFORMATION: EPA has established a public docket for this ICR under Docket ID number OA-2004-0006, which is available for public viewing at the Office of Environmental Information (OEI) Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information (OEI) Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Title: Exploring Public and Private Preferences for Children's Health Risk Reduction.

Abstract: Regulations promulgated by the U.S. Environmental Protection Agency generally have as their primary purpose the safeguard of human health. Economic analyses of the regulations' costs and benefits are often required as part of the rule-making process. Executive Order 12866 for instance requires a benefit-cost analysis of every rule expected to have a significant impact of $100 million or more.

Although most benefit cost analyses to date have been conducted using scientific and economic valuation estimates derived for adult populations, there is increased interest in conducting analyses by specific age group or life stage. Executive Order 13045, for instance, requires all agencies to specifically consider the effects of regulations on children. Advances in the scientific community have recently resulted in age-specific assessments of risk and exposure to various environmental contaminants. Similar advances are now sought in the economics field.

Currently, little is known about how the public values reductions in risk to health for children. Only a handful of valuation estimates exist in the literature that are specific to populations under the age of 18 as noted in USEPA's Children's Health Valuation Handbook (2002). Nor is it evident how other risk characteristics (e.g. the type of risk, the uncertainty associated with the health outcome, and the populations affected) affect an individual's willingness to pay for programs to reduce these risks.

To begin addressing these gaps, the National Center for Environmental Economics, in collaboration with the Office of Children's Health Protection, is in the process of designing a survey instrument to elicit willingness to pay values for cancer risk reductions to children and adults. Several versions of the survey instrument are planned so as to adequately address differences in values for these two populations as well as to assess differences in public and private scenarios.

The purpose of the proposed ICR is to gain approval for the conduct of a series of cognitive (or one-on-one) interviews as part of the survey development process. Cognitive interviews are a crucial component in the survey development process as they allow survey developers to identify problematic approaches, terminology, and graphics in the survey instrument. A total of 72 interviews are anticipated.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The only burden imposed by the interviews on respondents will be the time required to complete the survey and answer interview questions. The survey developers estimate that this will require an average of 1.5 hours per respondent. With a total of 72 respondents this requires a total of 108 hours. Based on an average hourly rate of $24.95 ¹ (including employer costs of all employee benefits), the survey developers expect that the average per-respondent cost for the pilot survey will be $37.43 and the corresponding one-time total cost to all respondents will be $4042.00. Since this information collection is voluntary and does not involve any special equipment, respondents will not incur any capital or operation and maintenance (O&M) costs.

¹ Employer costs per hour worked for employee compensation and costs as a percent of total compensation: Civilian workers, total compensation, March 2004 (http://stats.bls.gov/news.release/ecec.t02.htm).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 27, 2004.
Al McGartland,
Office Director, National Center for Environmental Economics, Office of Policy, Economics and Innovation.

[FR Doc. 04-21186 Filed 9-20-04; 8:45 am]

BILLING CODE 6560-50-P